DEPARTMENT OF STATE

[Public Notice: 11865]

Notice of Shipping Coordinating Committee Meeting in Preparation for International Maritime Organization MSC 106 Meeting

The Department of State will conduct a public meeting of the Shipping Coordinating Committee at 10:00 a.m. on Wednesday, October 26, 2022, by way of both in-person at Coast Guard Headquarters in Washington, DC and teleconference. The primary purpose of the meeting is to prepare for the one-hundred sixth session of the International Maritime Organization's (IMO) Maritime Safety Committee (MSC 106) to be held at IMO Headquarters in London, United Kingdom from Wednesday, November 2, 2022 to Friday November 11, 2022.

Members of the public may participate in-person or up to the capacity of the teleconference phone line, which can handle 500 participants. To RSVP, participants should contact the meeting coordinator, LCDR Jessica Anderson, by email at jessica.p.anderson@uscg.mil. The meeting location will be the United States Coast Guard Headquarters, Ray Evans Conference Room, ANTE-LL6 and the teleconference line will be provided to those who RSVP.

The agenda items to be considered by the advisory committee at this meeting mirror those to be considered at MSC 106, and include:

—Opening of the session

—Adoption of the agenda; report on credentials

—Decisions of other IMO bodies

—Consideration and adoption of amendments to mandatory instruments

—Goal-based new ship construction standards

—Development of a goal-based instrument for Maritime Autonomous Surface Ships (MASS)

—Measures to enhance maritime security

—Piracy and armed robbery against ships

—Unsafe mixed migration by sea

—Formal safety assessment

—Human element, training and watchkeeping (Urgent matters emanating from the eighth session of the Sub-Committee)

—Ship systems and equipment (Report of the eighth session of the Sub-Committee)

—Pollution prevention and response (matters emanating from the ninth session of the Sub-Committee)

—Navigation, communications and search and rescue (report of the ninth session of the Sub-Committee)

—Implementation of IMO instruments (Report of the eighth session of the Sub-Committee)

—Application of the Committee's method of work

—Work programme

—Election of the Chair and Vice-Chair for 2023

—Any other business

—Consideration of the report of the Committee on its 106th session

Please note: The IMO may, on short notice, adjust the MSC 106 agenda to accommodate the constraints associated with the virtual meeting format. Any changes to the agenda will be reported to those who RSVP.

Those who plan to participate may contact the meeting coordinator, LCDR Jessica Anderson, by email at Jessica.P.Anderson@uscg.mil, or in writing at 2703 Martin Luther King Jr. Ave. SE, Stop 7509, Washington, DC 20593-7509. Members of the public needing reasonable accommodation should advise LCDR Jessica Anderson not later than October 19, 2022. Requests made after that date will be considered, but might not be possible to fulfill.

Additional information regarding this and other IMO public meetings may be found at: https://www.dco.uscg.mil/IMO.

(Authority: 22 U.S.C. 2656 and 5 U.S.C. 552)

Gregory J. O'Brien,
Senior Oceans Policy Advisor, Office of Ocean and Polar Affairs, Department of State.

[FR Doc. 2022-20639 Filed 9-22-22; 8:45 am]

BILLING CODE 4710-09-P